DEPARTMENT OF COMMERCE

International Trade Administration

[A-570-002]

Chloropicrin From the People's Republic of China: Continuation of Antidumping Duty Order

AGENCY: Enforcement and Compliance, International Trade Administration, Department of Commerce.

SUMMARY: As a result of the determinations by the Department of Commerce (the “Department”) and the International Trade Commission (the “ITC”) that revocation of the antidumping duty order on chloropicrin from the People's Republic of China (“PRC”) would likely lead to a continuation or recurrence of dumping and material injury to an industry in the United States, the Department is publishing this notice of continuation of the antidumping duty order.

DATES: Effective date: September 22, 2015.

FOR FURTHER INFORMATION: Howard Smith, AD/CVD Operations, Office IV, Enforcement and Compliance, International Trade Administration, U.S. Department of Commerce, 14th Street and Constitution Avenue NW., Washington, DC 20230; telephone: (202) 482-5193.

SUPPLEMENTARY INFORMATION:

Background

On April 1, 2015, the Department initiated ¹ and the ITC instituted ² a five-year (sunset) review of the antidumping duty order on chloropicrin from the PRC pursuant to section 751(c) of the Tariff Act of 1930, as amended (“the Act”). The Department conducted an expedited sunset review of this order. As a result of its review, the Department determined that revocation of the antidumping duty order on chloropicrin from the PRC would likely lead to continuation or recurrence of dumping and notified the ITC of the magnitude of the dumping margins likely to prevail should the order be revoked.³ On September 8, 2015, the ITC published its determination, pursuant to sections 751(c) and 752 of the Act, that revocation of the antidumping duty order on chloropicrin from the PRC would likely lead to continuation or recurrence of material injury to an industry in the United States within a reasonably foreseeable time.⁴

¹ See Initiation of Five-year (“Sunset”) Review, 80 FR 17388 (April 1, 2015).

² See Chloropicrin From China; Institution of a Five-Year Review, 80 FR 17496 (April 1, 2015).

³ See Chloropicrin From the People's Republic of China: Final Results of the Expedited Sunset Review of the Antidumping Duty Order, 80 FR 47467 (August 07, 2015).

⁴ See Chloropicrin from China; Determinations, 80 FR 53888 (September 8, 2015).

Scope of the Order

The merchandise subject to the antidumping duty order is chloropicrin, also known as trichloronitromethane. A major use of the product is as a pre-plant soil fumigant (pesticide). Such merchandise is currently classifiable under Harmonized Tariff Schedule (“HTS”) item number 2904.90.50.05.⁵ The HTS item number is provided for convenience and customs purposes. The written description remains dispositive.

⁵ In 2004, a new HTS category was developed and identified specifically for imports of chloropicrin, i.e., 2904.90.50.05. Previously, the HTS category that included chloropicrin was 2904.90.50.

Continuation of the Order

As a result of the determinations by the Department and the ITC that revocation of the antidumping duty order would likely lead to continuation or recurrence of dumping and material injury to an industry in the United States, pursuant to section 751(d)(2) of the Act, the Department hereby orders the continuation of the antidumping duty order on chloropicrin from the PRC. U.S. Customs and Border Protection will continue to collect antidumping duty cash deposits at the rates in effect at the time of entry for all imports of subject merchandise.

The effective date of the continuation of the order will be the date of publication in the Federal Register of this notice of continuation. Pursuant to section 751(c)(2) of the Act, the Department intends to initiate the next five-year review of the order not later than 30 days prior to the fifth anniversary of the effective date of continuation of the order.

This five-year sunset review and this notice are in accordance with section 751(c) of the Act and published pursuant to section 777(i)(1) of the Act and 19 CFR 351.218(f)(4).

Dated: September 15, 2015.
Ronald K. Lorentzen,
Acting Assistant Secretary for Enforcement and Compliance.

[FR Doc. 2015-24095 Filed 9-21-15; 8:45 am]

BILLING CODE 3510-DS-P